DEPARTMENT OF DEFENSE

Department of the Army

Army Science Board; Notice of Closed Meeting

In accordance with section 10(a)(2) of the Federal Advisory Committee Act (P.L. 92-463), announcement is made of the following Study Group Meeting:

Name of Study Group: Asymmetric Study Group.

Date of Meeting: 16 May 2001.

Time of Meeting: 0800-1700.

Place of Meeting: Directed Technologies, Inc., 3601 Wilson Boulevard, Suite 650, Arlington, VA 22201, Phone: (703) 243-3383, FAX: (703) 243-2724.

Agenda: The Army Science Board Study Group will conduct a study on “Asymmetric Threats to Land Based Operations (2015-2020)” as a means of examining and addressing innovative ways that asymmetric threats can be used to disrupt land based operations in the future. The 1-day meeting will be closed to the public. This meeting will be closed to the public in accordance with Section 552b(c) of Title 5, U.S.C., specifically paragraph (1) thereof, and Title 5, U.S.C., Appendix 2, subsection 10(d). For further information, please contact Ms. Betty LaFavers, Office of the Assistant Secretary of the Army (Acquisition, Logistics and Technology), (703) 695-1683.

Wayne Joyner,
Executive Assistant, Army Science Board.

Classified Meeting*

* Security Clearance must be sent to DTI in advance.

Army Science Board

“Asymmetric Threats to Land Based Operations 2015-2020”

Directed Technologies, Inc., 3601 Wilson Boulevard, Suite 650, Arlington, VA 22201, 703-243-3383—FAX: 703-243-2724.

Agenda (Unclassified)

16 May 2001

0800 Welcome and Administrative Remarks—Co-Chairs

0815 Reports by Individuals and Clusters—All

1030 Break

1045 Continue Reports—All

1145 Lunch

1215 Continue Reports—All

1500 Break

1515 Group Discussion—All

1630 Summary and Actions / Assignments / Schedule for Next Meeting—Co-Chairs

1700 Adjourn

[FR Doc. 01-10186 Filed 4-24-01; 8:45 am]

BILLING CODE 3710-08-M